DEPARTMENT OF COMMERCE

Bureau of Industry and Security

15 CFR Part 764

[Docket No. 240911-0236]

RIN 0694-AJ84

Administrative and Enforcement Provisions; Correction

AGENCY: Bureau of Industry and Security, Department of Commerce.

ACTION: Final rule; correction.

SUMMARY: On September 16, 2024, the Bureau of Industry and Security (BIS) published a final rule amending administrative and enforcement provisions in the Export Administration Regulations (EAR). The rule contained an error in an amendatory instruction. This document corrects that error.

DATES: This correction is effective October 17, 2024.

FOR FURTHER INFORMATION CONTACT: For general questions, contact Tracy Martin, Office of Export Enforcement, Bureau of Industry and Security, U.S. Department of Commerce at (202) 482-1208 or by email: Tracy.Martin@bis.doc.gov.

SUPPLEMENTARY INFORMATION: BIS published a final rule entitled “Administrative and Enforcement Provisions” in the Federal Register on September 16, 2024, at 89 FR 75477, which contained an error in instruction number 2 amending 15 CFR 764.5. The instruction cited revisions to paragraphs (a) and (b) through (f), as well as adding paragraph (g). However, the intended revisions should have been to paragraphs (a) and (c) through (f) and adding a paragraph (g). Paragraph (b) was not intended to be revised. This document corrects instruction 2 for the record.

Correction

In FR Doc. No. 2024-21013, appearing on page 75477 in the Federal Register of Friday, September 16, 2024, make the following correction:

§ 764.5 [Corrected]

1. On page 75482, in the third column, instruction 2 reading “2. Section 764.5 is amended by revising paragraphs (a) and (b) through (f) and adding paragraph (g) to read as follows:” is corrected to read “2. Section 764.5 is amended by revising paragraphs (a) and (c) through (f) and adding paragraph (g) to read as follows:”.

Karen H. Nies-Vogel,
Director, Office of Exporter Services.

[FR Doc. 2024-23887 Filed 10-16-24; 8:45 am]

BILLING CODE 3510-33-P